ENVIRONMENTAL PROTECTION AGENCY

40 CFR Part 52

[EPA-R06-OAR-2006-0456; FRL-8241-2]

Approval and Promulgation of Implementation Plans; Louisiana; 2006 Low Enhanced Vehicle Inspection/Maintenance (I/M) Program

AGENCY: Environmental Protection Agency (EPA).

ACTION: Direct final rule.

SUMMARY: EPA is taking direct final action to approve the State Implementation Plan (SIP) revision of the Low Enhanced Vehicle Inspection/Maintenance Program for the State of Louisiana. This revision exempts the two newest model year gasoline-fueled passenger cars and trucks from On-Board Diagnostic (OBD) testing. We are taking this action in accordance with Sections 110 and 182 of the Clean Air Act.

DATES: This rule is effective on January 12, 2007 without further notice, unless EPA receives relevant adverse comment by December 13, 2006. If EPA receives such comment, EPA will publish a timely withdrawal in the Federal Register informing the public that this rule will not take effect.

ADDRESSES: Submit your comments, identified by Docket ID No. EPA-R06-OAR-2006-LA-0456, by one of the following methods:

• Federal eRulemaking Portal: http://www.regulations.gov. Follow the on-line instructions for submitting comments.

• U.S. EPA Region 6 “Contact Us” Web site: http://epa.gov/region6/r6coment.htm Please click on “6PD” (Multimedia) and select “Air” before submitting comments.

• E-mail: Mr. Thomas Diggs at diggs.thomas@epa.gov. Please also cc the person listed in the FOR FURTHER INFORMATION CONTACT section below.

• Fax: Mr. Thomas Diggs, Chief, Air Planning Section (6PD-L), at fax number 214-665-7263.

• Mail: Mr. Thomas Diggs, Chief, Air Planning Section (6PD-L), Environmental Protection Agency, 1445 Ross Avenue, Suite 1200, Dallas, Texas 75202-2733.

• Hand or Courier Delivery: Mr. Thomas Diggs, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Docket ID No. EPA-R06-OAR-2006-LA-0456. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at (214) 665-7253 to make an appointment. If possible, please make the appointment at least two working days in advance of your visit. There will be a 15 cent per page fee for making photocopies of documents. On the day of the visit, please check in at the EPA Region 6 reception area at 1445 Ross Avenue, Suite 700, Dallas, Texas.

The State submittal is also available for public inspection at the State Air Agency listed below during official business hours by appointment: Louisiana Department of Environmental Quality, Air Quality Division, 602 N. Fifth Street, Baton Rouge, Louisiana 70802.

FOR FURTHER INFORMATION CONTACT: Mrs. Sandra Rennie, Air Planning Section (6PD-L), Multimedia Planning and Permitting Division, U.S. EPA, Region 6, 1445 Ross Avenue, Dallas, Texas 75202, (214) 665-7367, e-mail address: rennie.sandra@epa.gov.

SUPPLEMENTARY INFORMATION: Throughout this document wherever “we,” “us,” or “our” is used, we mean the EPA.

Outline

I. What Action Is the EPA Taking?

II. What Did the State Submit?

III. What Are the Federal Requirements?

IV. What Is the Effect of This Action?

V. Why Can We Approve This Request?

VI. Final Action

VII. Statutory and Executive Order Reviews

I. What Action Is the EPA Taking?

EPA is taking direct final action to fully approve a revision to the Louisiana SIP. During the 2004 Regular Session of the Louisiana Legislature, legislation was enacted granting the Secretary of the Louisiana Department of Environmental Quality (LDEQ) the power to exempt vehicles of that model year and vehicles from prior model years from OBD testing. The Secretary of LDEQ submitted a SIP Revision for the Low Enhanced Vehicle I/M Program for the Baton Rouge Ozone Nonattainment Area. This nonattainment area consists of Ascension, East Baton Rouge, Iberville, Livingston, and West Baton Rouge Parishes.

The Clean Air Act as amended in 1990 requires that Baton Rouge implement a vehicle inspection/maintenance program to limit the amounts of VOC and NOX emitted from motor vehicles. Beginning in February of 1998, the EPA and the state of Louisiana consulted on an approvable I/M Program plan. On September 26, 2002, the EPA approved the I/M program for the Baton Rouge nonattainment area. The program required annual safety inspections on vehicles that are gasoline-fueled and have a gross vehicle weight rating (GVWR) of 10,000 pounds or less that are registered in the covered area. The subject vehicles are identified through the Department of Public Safety Office of Motor Vehicles database of registered vehicles in the five-parish nonattainment area.

II. What Did the State Submit?

The May 5, 2006, submittal includes a SIP narrative and a modeling demonstration. The State also submitted documentation giving the Secretary of the LDEQ additional authority in administering the I/M program. On July 1, 2004, Act No. 584 of the 2004 Regular Session of the Louisiana Legislature revised section 2054 of the Louisiana Revised Statutes R.S. 30:2054(B)(8) to authorize the secretary of environmental quality at the beginning of each year to exempt vehicles of that calendar year and vehicles from the prior model year from OBD testing. State regulations revised in March 2005 to reflect this change were also submitted. Louisiana Administrative Code Title 55:Part III, Chapter 8 was revised at LAC 55:III: 819(C) in November 2004 to allow the exemptions pursuant to R.S. 30:2054(B)(8). The I/M program grants no other special exemptions.

The modeling demonstration provided 2002 modeling and 2007 projections using MOBILE 6.2.03 emission factor modeling. MOBILE is an EPA emission factor model used to predict pollution from on-road motor vehicles. The model accounts for changes in vehicle population, activity, variation, and emission standards in local conditions such as temperature, humidity, fuel quality, and air quality. The MOBILE6 modeling submitted by LDEQ reflects an overall reduction in VOC and NOX emissions and demonstrates that the program will continue to meet the performance standard with the first two model years exempted from testing. This data may be found in the technical support document.

III. What Are the Federal Requirements?

Model year coverage is not strictly specified in 40 CFR 51.356 (Vehicle Coverage) in the Federal I/M rule. Special exemption may be permitted for certain subject vehicles provided a demonstration is made showing the performance standard is met. All model year exemptions are covered by this provision. The state of Louisiana provided sufficient MOBILE6 modeling that supports an overall reduction in NOX and VOC as required in Section 182(c)(3) of the Clean Air Act. This evidence of an overall reduction in NOX and VOC demonstrates that this SIP revision meets and complies with section 110(l) of the Act.

IV. What Is the Effect of This Action?

By definition, the OBD computer system is installed in a vehicle by the manufacturer, and monitors the performance of the vehicle's emissions control equipment. The inspection of the OBD system consists of a visual check of the vehicle's malfunction indicator lamp, and an electronic examination of the OBD system. This exemption alleviates a portion of the waiting time incurred at inspection stations by decreasing the amount of vehicles subject to the entire inspection process. The exempted vehicles are only required to obtain visual anti-tampering checks and gas cap integrity tests.

V. Why Can We Approve This Revision?

We conclude that the Baton Rouge I/M Program meets the requirements of the Federal I/M regulations. Therefore, EPA can approve the revisions to the Baton Rouge low enhanced vehicle I/M program. The State consulted with EPA's Office of Transportation and Air Quality in preparation of the MOBILE 6.2.03 demonstration. The State submitted the modeling demonstration showing that the low enhanced performance standard, as established in 2002, is met when the two newest model years are exempt from OBD testing. The revision meets the performance standard requirements, and it meets and complies with section 110(l) of the Act.

VI. Final Action

We are approving this revision to the Baton Rouge I/M program. EPA is publishing this rule without prior proposal because we view this as a noncontroversial amendment and anticipate no adverse comments. However, in the proposed rules section of this Federal Register publication, we are publishing a separate document that will serve as the proposal to approve the SIP revision if adverse comments are received. This rule will be effective on January 12, 2007 without further notice unless we receive adverse comment by December 13, 2006. If we receive adverse comments, we will publish a timely withdrawal in the Federal Register informing the public that the rule will not take effect. We will address all public comments in a subsequent final rule based on the proposed rule. We will not institute a second comment period on this action. Any parties interested in commenting must do so at this time. Please note that if we receive adverse comment on an amendment, paragraph, or section of this rule and if that provision may be severed from the remainder of the rule, we may adopt as final those provisions of the rule that are not the subject of an adverse comment.

VII. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 12, 2007. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: October 23, 2006.
Richard E. Greene,
Regional Administrator, Region 6.

40 CFR part 52 is amended as follows:

Part 52, chapter I, title 40 of the Code of Federal Regulations is amended as follows:

PART 52—[AMENDED]

1. The authority citation for part 52 continues to read as follows:

Authority: 42 U.S.C. 7401 et seq.

Subpart T—Louisiana

2. The table in 40 CFR 52.970(c) entitled “EPA Approved Louisiana Regulations in the Louisiana SIP,” is amended by revising Section 819 in LAC Title 55, Part III, Motor Vehicles, Chapter 8, Motor Vehicle Inspection as shown below:

§ 52.970 Identification of plan.

* * * * *

(c) * * *

EPA Approved Louisiana Regulations in the Louisiana SIP
State citation | Title/subject | State submittal/ approval date | EPA approval date | Comments
* * * * * * *
LAC Title 55. Part III. Motor Vehicles, Chapter 8. Motor Vehicle Inspections
* * * * * * *
Subchapter C. Vehicle Emission Inspection and Maintenance Program
* * * * * * *
Section 819 | Anti-tampering and Inspection and Maintenance Parameters | May 5, 2006 | November 13, 2006, [Insert Federal Register page number] |
* * * * * * *

[FR Doc. E6-19020 Filed 11-9-06; 8:45 am]

BILLING CODE 6560-50-P